DEPARTMENT OF TRANSPORTATION

Federal Aviation Administration

14 CFR Part 39

[Docket No. FAA-2012-0765; Directorate Identifier 2012-CE-028-AD; Amendment 39-17130; AD 2012-15-01]

RIN 2120-AA64

Airworthiness Directives; Various Aircraft Equipped With Rotax Aircraft Engines 912 A Series Engine

AGENCY: Federal Aviation Administration (FAA), DOT.

ACTION: Final rule; request for comments.

SUMMARY: We are adopting a new airworthiness directive (AD) for various aircraft equipped with Rotax Aircraft Engines 912 A series engine. This AD results from mandatory continuing airworthiness information (MCAI) issued by the aviation authority of another country to identify and correct an unsafe condition on an aviation product. The MCAI describes the unsafe condition as a deviation in the manufacturing process of fuel hoses installed on the pressure side of part number 893114 fuel pumps. The fuel hoses may not be fuel resistant, which could lead to detachment of particles from the fuel hose and cause irregularities in the carburetor function and possibly result in rough engine operation, engine misfire, in-flight engine shutdown, and forced landing. We are issuing this AD to require actions to address the unsafe condition on these products.

DATES: This AD is effective August 14, 2012.

The Director of the Federal Register approved the incorporation by reference of a certain publication listed in the AD as of August 14, 2012.

We must receive comments on this AD by September 13, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact BRP-Powertrain GmbH & Co. KG, Welser Strasse 32, A-4623 Gunskirchen, Austria; phone: +43 7246 601 0; fax: +43 7246 601 9130; Internet: http://www.rotax-aircraft-engines.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Sarjapur Nagarajan, Aerospace Engineer, FAA, Small Airplane Directorate, 901 Locust, Room 301, Kansas City, Missouri 64106; telephone: (816) 329-4145; fax: (816) 329-4090; email: sarjapur.nagarajan@faa.gov.

SUPPLEMENTARY INFORMATION:

Discussion

The European Aviation Safety Agency (EASA), which is the Technical Agent for the Member States of the European Community, has issued AD No. 2012-0097R1, dated June 1, 2012 (referred to after this as “the MCAI”), to correct an unsafe condition for the specified products. The MCAI states:

Reports from the field confirmed a non-compliance of pressure side fuel hoses installed on certain P/N 893114 fuel pumps, which may have resulted in a latent defect on a limited number of engines. The affected fuel hoses may not be fuel resistant in accordance with the specification.

This condition, if not corrected, could lead to detachment of particles from the fuel hose and irregularities in the carburettor function, possibly resulting in in-flight engine shutdown and forced landing, damage to the aeroplane and injury to occupants.

To address this potential unsafe condition, EASA issued Emergency AD 2012-0093-E to require the replacement of the pressure side fuel hose on certain fuel pumps, identified by P/N 893114. That AD also prohibited installation of an affected engine on an aeroplane, unless the fuel pump installation of that engine had been corrected as required by the AD.

Since that AD was issued, the relevant BRP-Powertrain Alert Service Bulletin (ASB) ASB-912-061 has been revised (R1) to correct the list of affected P/N 893114 fuel pumps, identified by s/n. As some of these pumps (including potentially defective hoses) have been delivered as spares, they could also be installed on other engines than those specified by s/n in BRP-Powertrain ASB-912-061R1.

For the reasons described above, this AD retains the requirements of EASA Emergency AD 2012-0093-E, which is superseded, expands the Applicability to all Rotax 912 series engines and corrects Table 1—Affected P/N 893114 fuel pumps. In addition, 2 aeroplane types have been removed from the Applicability of this AD: Aeromot AMT 300 Turbo Super Ximango and Stemme S10 VT have a Rotax 914 engine installed, not a Rotax 912.

This AD has been revised to correct Table 1 of the Required Action(s) and Compliance Times(s) section, which did not contain all affected s/n fuel pumps.

This AD requires replacement of the pressure side fuel hose on the part number (P/N) 893114 fuel pump. This AD also prohibits the installation of an affected engine unless the pressure side fuel hose on the P/N 893114 fuel pump has been replaced. You may obtain further information by examining the MCAI in the AD docket.

Relevant Service Information

Rotax Aircraft Engines BRP has issued Alert Service Bulletin ASB-912-061R1, dated May 31, 2012. The actions described in this service information are intended to correct the unsafe condition identified in the MCAI.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because detachment of particles from the fuel hose on the pressure side of the fuel pump could cause engine damage and result in in-flight engine shutdown. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2012-0765; Directorate Identifier 2012-CE-028-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 50 products of U.S. registry. We also estimate that it will take about 3 work-hours per product to comply with the basic requirements of this AD. The average labor rate is $85 per work-hour. Required parts will cost about $300 per product.

Based on these figures, we estimate the cost of the AD on U.S. operators to be $27,750, or $555 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-15-01 Various Aircraft: Amendment 39-17130; Docket No. FAA-2012-0765; Directorate Identifier 2012-CE-028-AD.

(a) Effective Date

This airworthiness directive (AD) becomes effective August 14, 2012.

(b) Affected ADs

None.

(c) Applicability

This AD applies to all serial numbers of the airplanes listed in table 1 to paragraph (c) of this AD, that are:

(1) Equipped with a Rotax Aircraft Engines 912 A series engine, with a part number (P/N) 893114 fuel pump installed; and

(2) certificated in any category.

Table 1 to Paragraph (c)—Affected Airplanes
Type certificate holder | Aircraft model | Engine model
Aeromot-Indústria Mecânico-Metalúrgica Ltda | AMT-200 | 912 A2
Diamond Aircraft Industries | HK 36 R “SUPER DIMONA” | 912 A
DIAMOND AIRCRAFT INDUSTRIES GmbH | HK 36 TS and HK 36 TC | 912 A3
Diamond Aircraft Industries Inc. | DA20-A1 | 912 A3
HOAC-Austria | DV 20 KATANA | 912 A3
Iniziative Industriali Italiane S.p.A. | Sky Arrow 650 TC | 912 A2
SCHEIBE-Flugzeugbau GmbH | SF 25C | 912 A2

(d) Subject

Air Transport Association of America (ATA) Code 73: Engine Fuel and Control.

(e) Reason

This AD was prompted by mandatory continuing airworthiness information (MCAI) issued by the aviation authority of another country to identify and correct an unsafe condition on an aviation product. The MCAI describes the unsafe condition as a deviation in the manufacturing process of fuel hoses installed on the pressure side of P/N 893114 fuel pumps. The fuel hoses may not be fuel resistant, which could lead to detachment of particles from the fuel hose and cause irregularities in the carburetor function. We are issuing this AD to prevent failure of the fuel hose on the pressure side of the P/N 893114 fuel pump, which could result in rough engine operation, engine misfire, in-flight engine shutdown, and forced landing.

(f) Actions and Compliance

Unless already done, do the following actions in accordance with Rotax Aircraft Engines BRP Alert Service Bulletin ASB-912-061R1, dated May 31, 2012.

(1) Before further flight after August 14, 2012 (the effective date of this AD), replace the pressure side fuel hose on the P/N 893114 fuel pump.

(2) As of August 14, 2012 (the effective date of this AD), do not install a P/N 893114 fuel pump on any engine, unless the pressure side fuel hose of that fuel pump has been replaced as required in paragraph (f)(1) of this AD.

(3) As of August 14, 2012 (the effective date of this AD), do not install on any airplane a Rotax 912 A series engine, unless the fuel pump installation of that engine has been corrected as required in paragraph (f)(1) of this AD.

(g) Other FAA AD Provisions

The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090; email: sarjapur.nagarajan@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No. 2012-0097R1, dated June 1, 2012; and Rotax Aircraft Engines BRP Alert Service Bulletin ASB-912-061R1, dated May 31, 2012, for related information.

(i) Material Incorporated by Reference

(1) You must use Rotax Aircraft Engines BRP Alert Service Bulletin ASB-912-061R1, dated May 31, 2012, to do the actions required by this AD, unless the AD specifies otherwise. The Director of the Federal Register approved the incorporation by reference (IBR) under 5 U.S.C. 552(a) and 1 CFR part 51.

(2) For service information identified in this AD, contact BRP-Powertrain GmbH & Co. KG, Welser Strasse 32, A-4623 Gunskirchen, Austria; phone: +43 7246 601 0; fax: +43 7246 601 9130; Internet: http://www.rotax-aircraft-engines.com.

(3) You may review copies of the referenced service information at the FAA, Small Airplane Directorate, 901 Locust, Kansas City, Missouri 64106. For information on the availability of this material at the FAA, call (816) 329-4148.

(4) You may also review copies of the service information that is incorporated by reference at the National Archives and Records Administration (NARA). For information on the availability of this material at an NARA facility, call 202-741-6030, or go to http://www.archives.gov/federal_register/code_of_federal_regulations/ibr_locations.html.

Issued in Kansas City, Missouri, on July 17, 2012.
Earl Lawrence,
Manager, Small Airplane Directorate, Aircraft Certification Service.

[FR Doc. 2012-18149 Filed 7-27-12; 8:45 am]

BILLING CODE 4910-13-P